FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on whether the proposed transaction complies with the standards enumerated in the HOLA (12 U.S.C. 1467a(e)).

Comments regarding each of these applications must be received at the Reserve Bank indicated or the offices of the Board of Governors, Ann E. Misback, Secretary of the Board, 20th Street and Constitution Avenue NW, Washington DC 20551-0001, not later than October 21, 2022.

A. Federal Reserve Bank of Boston (Prabal Chakrabarti, Senior Vice President) 600 Atlantic Avenue, Boston, Massachusetts 02210-2204, or electronically to BOS.SRC.Applications.Comments@bos.frb.org:

1. First Seacoast Bancorp, MHC, Dover, New Hampshire; to convert from mutual to stock form. As part of the conversion, First Seacoast Bancorp, MHC, and First Seacoast Bancorp, Inc., also of Dover, New Hampshire, an existing mid-tier savings and loan holding company, will cease to exist and First Seacoast Bank, Dover, New Hampshire, will become a wholly-owned subsidiary of First Seacoast Bancorp, Inc., Dover, New Hampshire, a newly-formed Maryland corporation, which has applied to become a savings and loan holding company, pursuant to section 10(e) of the HOLA, by acquiring First Seacoast Bank.

B. Federal Reserve Bank of Dallas (Karen Smith, Director, Applications) 2200 North Pearl Street, Dallas, Texas 75201-2272:

1. Homeland Bancshares, Inc., Columbia, Louisiana; to acquire Beauregard Bancshares, Inc., and thereby indirectly acquire Beauregard Federal Savings Bank, both of DeRidder, Louisiana.

C. Federal Reserve Bank of Cleveland (Bryan S. Huddleston, Vice President) 1455 East Sixth Street, Cleveland, Ohio 44101-2566, or Comments.applications@clev.frb.org:

1. First Mutual Holding Company, Lakewood, Ohio; to form a nonbank subsidiary, AlloBaaS, LLC, to provide management services such as negotiating, entering into, and providing third-party information technology (core and data processing) and digital services related to financial and banking activities for the saving bank subsidiaries, pursuant to section 238.53 of the Board's Regulation LL.

Board of Governors of the Federal Reserve System.
Michele Taylor Fennell,
Deputy Associate Secretary of the Board.

[FR Doc. 2022-20485 Filed 9-21-22; 8:45 am]

BILLING CODE P